FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 3, 2011.

A. Federal Reserve Bank of Minneapolis (Jacqueline G. King, Community Affairs Officer) 90 Hennepin Avenue, Minneapolis, Minnesota 55480-0291:

1. Gregory R. Raymo, Worthington, Minnesota, individually and as a proposed Co-Trustee of the First State Bank Southwest 2010 Amended and Restated KSOP Plan and trust; to acquire voting shares of First Rushmore Bancorporation, Inc., Worthington, Minnesota, and thereby indirectly acquire voting share of First State Bank Southwest, Pipestone, Minnesota.

Board of Governors of the Federal Reserve System, January 14, 2011.
Robert deV. Frierson,
Deputy Secretary of the Board.

[FR Doc. 2011-1120 Filed 1-19-11; 8:45 am]

BILLING CODE 6210-01-P